FEDERAL RESERVE SYSTEM

Notice of Proposals To Engage in Permissible Nonbanking Activities or To Acquire Companies That Are Engaged in Permissible Nonbanking Activities

The companies listed in this notice have given notice under section 4 of the Bank Holding Company Act (12 U.S.C. 1843) (BHC Act) and Regulation Y, (12 CFR Part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act. Additional information on all bank holding companies may be obtained from the National Information Center website at www.ffiec.gov/nic/.

Unless otherwise noted, comments regarding the applications must be received at the Reserve Bank indicated or the offices of the Board of Governors not later than January 5, 2001.

A. Federal Reserve Bank of Cleveland (Jeffrey Hirsch, Banking Supervisor) 1455 East Sixth Street, Cleveland, Ohio 44101-2566:

1. United Bancshares, Inc., Columbus Grove, Ohio; to acquire Citizens Bank of Delphos, Federal Savings Bank, Delphos, Ohio, and engage in permissible savings association activities pursuant to § 225.28(b)(4) of Regulation Y. Comments on this application must be received by January 16, 2001.

B. Federal Reserve Bank of Chicago (Philip Jackson, Applications Officer) 230 South LaSalle Street, Chicago, Illinois 60690-1413:

1. Michigan National Corporation, Farmington Hills, Michigan; to acquire Standard Federal Bancorporation, Inc., Troy, Michigan, and thereby indirectly acquire Standard Federal Bank, Troy, Michigan, and thereby engage in the nonbanking activity of operating a savings association pursuant to § 225.28(b)(4) of Regulation Y. Comments on this application must be received by January 16, 2001.

C. Federal Reserve Bank of San Francisco (Pat Marshall, Manager of Analytical Support, Consumer Regulation Group) 101 Market Street, San Francisco, California 94105-1579:

1. City National Corporation, Beverly Hills, California; to acquire Reed, Conner & Birdwell, Inc., Los Angeles, California, and thereby engage in acting as investment and financial advisor pursuant to § 225.28(b)(6) of Regulation Y; and providing administrative services to mutual funds. Lloyds TSB Group plc, 84 Federal Reserve Bulletin 128 (1998).

Board of Governors of the Federal Reserve System, December 15, 2000.
Robert deV. Frierson,
Associate Secretary of the Board.

[FR Doc. 00-32508 Filed 12-20-00; 8:45 am]

BILLING CODE 6210-01-P